DEPARTMENT OF ENERGY

Federal Energy Regulatory Commission

[Docket No. EC01-94-000, et al.]

American Electric Power Service Corporation, et al.; Electric Rate and Corporate Regulation Filings

June 4, 2001.

Take notice that the following filings have been made with the Commission:

1. American Electric Power Service Corporation

[Docket No. EC01-94-000]

Take notice that on May 29, 2001, American Electric Power Service Corporation, on behalf of West Texas Utilities Company, Public Service Company of Oklahoma and Southwestern Electric Power Company, filed with the Federal Energy Regulatory Commission an amendment to the application filed in this proceeding on April 27, 2001 pursuant to section 203 of the Federal Power Act requesting authorization to transfer operational control of certain jurisdictional transmission facilities to the Southwest Power Pool Regional Transmission Organization as proposed and described in the filing made by the Southwest Power Pool on October 13, 2000 in Docket No. RT01-34-000.

Copies of the amended filing have been served on the Arkansas Public Service Commission, the Louisiana Public Service Commission, the Oklahoma Corporation Commission, the Public Utility Commission of Texas, and all parties on the service list compiled by the Secretary in this proceeding.

Comment date: June 14, 2001, in accordance with Standard Paragraph E at the end of this notice.

2. Midwest Energy, Inc.

[Docket No. EC01-106-000]

Take notice that on May 24, 2001, Midwest Energy, Inc. filed with the Federal Energy Regulatory Commission an application pursuant to section 203 of the Federal Power Act for authorization of a disposition of jurisdictional facilities whereby Midwest Energy, Inc. will transfer operational control of its jurisdictional transmission facilities to the Southwest Power Pool (SPP) Regional Transmission Operator.

Comment date: June 14, 2001, in accordance with Standard Paragraph E at the end of this notice.

3. PG&E Dispersed Generating Company, LLC, Plains End, LLC

[Docket No. EC01-107-000]

Take notice that on May 24, 2001, PG&E Dispersed Generating Company, LLC and Plains End, LLC (Applicants) jointly filed with the Federal Energy Regulatory Commission an application pursuant to Section 203 of the Federal Power Act for authorization for an intra-corporate transfer of a wholesale power sales agreement. Applicants have requested privileged treatment for the power sales agreement.

Comment date: June 14, 2001, in accordance with Standard Paragraph E at the end of this notice.

4. Kansas City Power & Light Company and Southwest Power Pool

[Docket No. EC01-108-000]

Take notice that on May 25, 2001, Kansas City Power & Light Company (KCPL) filed with the Federal Energy Regulatory Commission pursuant to section 203 of the Federal Power Act for authorization of a disposition of jurisdictional facilities whereby the Applicants will transfer operational control of its jurisdictional transmission facilities to the Southwest Power Pool Regional Transmission Operator.

Comment date: June 15, 2001, in accordance with Standard Paragraph E at the end of this notice.

5. The Empire District Electric Company

[Docket No. EC01-109-000]

Take notice that on May 25, 2001, The Empire District Electric Company (Empire) filed with the Federal Energy Regulatory Commission pursuant to section 203 of the Federal Power Act for authorization of a disposition of jurisdictional facilities whereby the Applicants will transfer operational control of its jurisdictional transmission facilities to the Southwest Power Pool Regional Transmission Operator.

Comment date: June 15, 2001, in accordance with Standard Paragraph E at the end of this notice.

6. Richmond County Power, LLC

[Docket No. ER01-1417-001]

Take notice that on May 29, 2001, Richmond County Power, LLC tendered for filing an amendment to the application for authorization to sell energy, capacity and ancillary services at market-based rates that it originally filed in the above-captioned docket on March 6, 2001.

Comment date: June 19, 2001, in accordance with Standard Paragraph E at the end of this notice.

7. Idaho Power Company

[Docket No. ER01-1512-001]

Take notice that on May 29, 2001, Idaho Power Company tendered for filing a revised long-term service agreement under its open access transmission tariff in the above-captioned proceeding.

Comment date: June 19, 2001, in accordance with Standard Paragraph E at the end of this notice.

8. AIG Energy Trading Inc.

[Docket No. ER01-1635-001]

Take notice that on May 30, 2001, AIG Energy Trading Inc. (Seller) tendered for filing a compliance filing pursuant to the order of the Federal Energy Regulatory Commission (Commission) issued on May 24, 2001, in the above-captioned docket. The Commission's May 24 order accepted Seller's market-based rate filing, conditioned upon Seller, within 15 days of the order, changing the designation of its rate schedule to: Rate Schedule FERC No. 1. Seller's filing reflects this change.

Comment date: June 20, 2001, in accordance with Standard Paragraph E at the end of this notice.

9. California Independent System Operator Corporation

[Docket No. ER01-1646-001]

Take notice that on May 29, 2001, the California Independent System Operator Corporation (ISO) tendered for filing an Interconnected Control Area Operating Agreement (ICAOA) between the ISO and Comision Federal de Electricidad, in compliance with the Commission's April 27, 2001 letter order in the above-referenced docket and with Order No. 614. The ISO states that it does not now propose any new substantive changes to the ICAOA.

The ISO states that this filing has been served upon all parties in the above-referenced docket.

Comment date: June 19, 2001, in accordance with Standard Paragraph E at the end of this notice.

10. FPL Energy Maine Holdings, LLC & Boralex Industries Inc.

[Docket No. ER01-1854-001]

Take notice that on May 30, 2001, FPL Energy Maine Holdings, LLC and Boralex Industries Inc., jointly tendered for filing an amendment to their April 24, 2001 notice of succession, notice of change in status and application for market-based rate authority pursuant to Section 205 of the Federal Power Act. The sole purpose of the amendment is to request the Commission to grant such waivers of certain filing requirements and such blanket authorizations as the Commission has authorized in previous orders involving sellers of power from merchant plants at market-based rates.

Comment date: June 20, 2001, in accordance with Standard Paragraph E at the end of this notice.

11. Puget Sound Energy, Inc.

[Docket No. ER01-2149-000]

Take notice that on May 29, 2001, Puget Sound Energy (PSE) tendered for filing a Blanket Service Agreement for Retail Network Integration Transmission Service, a Retail Network Operating Agreement, and a proposed Schedule 4R for PSE's Open Access Transmission Tariff (OATT) to provide Energy Imbalance Service for certain Retail Customers. The retail customers that will take service under these agreements and under Schedule 4R were previously Schedule 48 and Special Contract customers. PSE requests an effective date of June 1, 2001 for the filings.

A copy of the filing was served upon all parties listed in the Certificate of Service.

Comment date: June 19, 2001, in accordance with Standard Paragraph E at the end of this notice.

12. SOWEGA Power LLC

[Docket No. ER01-2150-000]

Take notice that on May 29, 2001, SOWEGA Power LLC (SOWEGA) tendered for filing an Electric Power Master Agreement between SOWEGA and Morgan Stanley Capital Group Inc. as a long-term service agreement under SOWEGA's market based sales tariff. The Electric Power Master Agreement is designated as SOWEGA Power LLC FERC Service Agreement No. 5 to SOWEGA's FERC Electric Tariff, Original Vol. 1.

Comment date: June 19, 2001, in accordance with Standard Paragraph E at the end of this notice.

13. Cold Springs Creek, LLC

[Docket No. ER01-2151-000]

Take notice that on May 29, 2001, Cold Springs Creek, LLC (Cold Springs), tendered for filing an application to shorten time for notice and comments, for waivers and blanket approvals under various regulations of the Commission, and for an order accepting its FERC Electric Rate Schedule No. 1. Cold Springs proposes that its Rate Schedule No. 1 become effective upon commencement of service of the Cold Springs power plant (the Plant), a generation project currently being developed by Cold Springs in the State of Idaho.

The Plant will commence the sale of power on June 15, 2001, Cold Springs intends to sell energy and capacity from the Plant at market-based rates, and on such terms and conditions to be mutually agreed upon with the purchasing party. Copies of the filing were served on Northern Lights, Inc, Rural Electric Cooperative, and the Idaho Public Utilities Commission.

Comment date: June 19, 2001, in accordance with Standard Paragraph E at the end of this notice.

14. Cinergy Services, Inc.

[Docket No. ER01-2152-000]

Take notice that on May 29, 2001, Cinergy Services, Inc. tendered for filing a Facilities Construction Agreement by and between Cinergy Services, Inc. (Cinergy) and Cogentrix Lawrence County, LLC (Cogentrix), which is dated May 2, 2001.

The Facilities Construction Agreement between the parties provides for the construction and installation of the interconnection facilities and the additions, modifications and upgrades to the existing transmission facilities of PSI Energy, Inc. (APSI), a Cinergy utility operating company.

Cinergy states that it has served a copy of its filing upon the Indiana Utility Regulatory Commission and Cogentrix.

Comment date: June 19, 2001, in accordance with Standard Paragraph E at the end of this notice.

15. Central Vermont Public Service Corporation

[Docket No. ER01-2153-000]

Take notice that on May 29, 2001, Central Vermont Public Service Corporation (Central Vermont), tendered for filing an executed Service Agreement for Non-Firm Point-to-Point Transmission Service with Citizens Communications Company under Central Vermont's FERC Electric Tariff, First Revised Volume No. 7.

Copies of the filing were served upon the above-mentioned company and the Vermont Public Service Board.

Comment date: June 19, 2001, in accordance with Standard Paragraph E at the end of this notice.

16. Southwest Power Pool, Inc.

[Docket No. ER01-2154-000]

Take notice that on May 29, 2001, Southwest Power Pool, Inc. (SPP) tendered for filing three executed service agreements for Firm Point-to-Point Transmission Service, Non-Firm Point-to-Point Transmission Service, and Loss Compensation Service with Calpine Energy Services, L.P. (Transmission Customer). SPP seeks an effective date of May 17, 2001 for each of these service agreements.

A copy of this filing was served on the Transmission Customer.

Comment date: June 19, 2001, in accordance with Standard Paragraph E at the end of this notice.

17. Pennsylvania Electric Company

[Docket No. ER01-2155-000]

Take notice that on May 29, 2001, Pennsylvania Electric Company (doing business as GPU Energy) tendered for filing a letter agreement (Agreement) between GPU Energy and Allegheny Energy Supply Company LLC (Allegheny Energy). Under the Agreement, Allegheny Energy has agreed to the operational and financial responsibilities set forth in the GPU Energy Manuals in connection with Allegheny Energy becoming the Load Serving Entity for the Pennsylvania Boroughs of Berlin, Hooversville and Smethport.

Copies of the filing were served upon Allegheny Energy, PJM and regulators in the Commonwealth of Pennsylvania.

Comment date: June 19, 2001, in accordance with Standard Paragraph E at the end of this notice.

18. New England Power Company

[Docket No. ER01-2156-000]

Take notice that on May 29, 2001, New England Power Company (NEP) tendered for filing a notice of succession for Montaup Electric Company, FERC Electric Tariff, First Revised Volume No. 1 (Montaup Tariff No. 1) and certain service agreements under Montaup Tariff No. 1.

Comment date: June 19, 2001, in accordance with Standard Paragraph E at the end of this notice.

19. Arizona Public Service Company

[Docket No. ER01-2157-000]

Take notice that on May 29, 2001, Arizona Public Service Company (APS) tendered for filing umbrella Service Agreements to provide Short-Term Firm and Non-Firm Point-to-Point Transmission Service to Portland General Electric, and State of Nevada, Colorado River Commission under APS” Open Access Transmission Tariff.

A copy of this filing has been served on Portland General Electric, State of Nevada, Colorado River Commission, Oregon Public Utility Commission, and the Arizona Corporation Commission.

Comment date: June 19, 2001, in accordance with Standard Paragraph E at the end of this notice.

20. Mid-Continent Area Power Pool

[Docket No. ER01-2158-000]

Take notice that on May 29, 2001, the Mid-Continent Area Power Pool, on behalf of its public utility members, tendered for filing service agreements under MAPP Schedule R with American Electric Power Corporation; Black Hills Power; FPL Energy Power Marketing, Inc.; Kansas City Power and Light; Northern States Power; NRG Power Marketing Inc.; Split Rock Energy; UtiliCorp United, Inc.; and Williams Energy Marketing & Trading Company.

Comment date: June 19, 2001, in accordance with Standard Paragraph E at the end of this notice.

21. Hermiston Generating Company, L.P.

[Docket No. ER01-2159-000]

Take notice that on May 29, 2001, Hermiston Generating Company, L.P. (Hermiston) tendered for filing, pursuant to Section 205 of the Federal Power Act, and Part 35 of the Commission's regulations, an application for authorization to make sales of capacity, energy, and certain Ancillary Services at market-based rates; to reassign transmission capacity; and to resell firm transmission rights (FTRs). Hermiston owns an undivided 50 percent interest in an electric generating facility located in Hermiston, Oregon.

Comment date: June 19, 2001, in accordance with Standard Paragraph E at the end of this notice.

22. West Penn Power Company (dba Allegheny Power)

[Docket No. ER01-2160-000]

Take notice that on May 30, 2001, West Penn Power Company, dba Allegheny Power, tendered for filing an Amendment to its Electric Service Agreement with the Borough of Chambersburg (Customer) under FERC Electric Tariff, First Revised Volume No. 1 to permit the Customer to make sales from its generation into the market, and also filed an Interconnection and Operating Agreement with the Customer as Service Agreement No. 353 under Allegheny Power's Open Access Transmission Tariff. An effective date of May 31, 2001 is requested.

Copies of the filing have been provided to the Public Utilities Commission of Ohio, the Pennsylvania Public Utility Commission, the Maryland Public Service Commission, the Virginia State Corporation Commission, the West Virginia Public Service Commission and all parties of record.

Comment date: June 20, 2001, in accordance with Standard Paragraph E at the end of this notice.

23. New England Power Pool

[Docket No. ER01-2161-000]

Take notice that on May 30, 2001, the New England Power Pool (NEPOOL) tendered for filing changes to Ancillary Service Schedule 2 (Reactive Supply and Voltage Control from Generation Sources Service) (Schedule 2) in the NEPOOL Open Access Transmission Tariff. These changes would amend Schedule 2 to include a capacity charge. This amendment to the Tariff is expected to increase rates approximately $12 million annually. The changes also include elimination of the Schedule 2 Implementation Rule previously filed with the Commission. NEPOOL states that the elimination of the Schedule 2 Rule will not increase rates. An August 1, 2001 effective date is requested.

NEPOOL states that copies of these materials were sent to the NEPOOL Participants and the six New England state governors and regulatory commissions.

Comment date: June 20, 2001, in accordance with Standard Paragraph E at the end of this notice.

24. New York Independent System Operator, Inc.

[Docket No. ER01-2162-000]

Take notice that on May 30, 2001, the New York Independent System Operator, Inc. (NYISO) tendered for filing proposed revisions to NYISO Agreement. The NYISO requests an effective date of one day after this filing (May 31, 2001).

Copies of this filing were served upon all to all parties that have executed Service Agreements under the NYISO's Open-Access Transmission Tariff or Services Tariff, to the New York State Public Service Commission, and to the electric utility regulatory agencies in New Jersey and Pennsylvania.

Comment date: June 20, 2001, in accordance with Standard Paragraph E at the end of this notice.

25. American Electric Power Service Corporation

[Docket No. ER01-2163-000]

Take notice that on May 30, 2001, the American Electric Power Service Corporation (AEPSC) tendered for filing an unexecuted Interconnection and Operation Agreement between Indiana Michigan Power Company and DPL Energy, Inc. The agreement is pursuant to the AEP Companies' Open Access Transmission Service Tariff (OATT) that has been designated as the Operating Companies of the American Electric Power System FERC Electric Tariff Revised Volume No. 6, effective June 15, 2000.

AEP requests an effective date of May 31, 2001.

A copy of the filing was served upon the Indiana Utility Regulatory Commission and Michigan Public Utilities Commission.

Comment date: June 20, 2001, in accordance with Standard Paragraph E at the end of this notice.

26. Southern Company Services, Inc.

[Docket No. ER01-2164-000]

Take notice that on May 30, 2001, Southern Company Services, Inc., as agent for Georgia Power Company (Georgia Power), tendered for filing the Interconnection Agreement between Georgia Power and Duke Energy Glynn, LLC (DENA Glynn) (the Agreement), as a service agreement under Southern Operating Companies' Open Access Transmission Tariff (FERC Electric Tariff, Fourth Revised Volume No. 5) and is designated as Service Agreement No. 378. The Agreement provides the general terms and conditions for the interconnection and parallel operation of DENA Glynn's electric generating facility located near Thalmann, Glynn County, Georgia. The Agreement terminates forty (40) years from the effective date unless terminated earlier by mutual written agreement.

Comment date: June 20, 2001, in accordance with Standard Paragraph E at the end of this notice.

27. LSP Energy Limited Partnership

[Docket No. ER98-2259-002]

Take notice that on May 30, 2001, LSP Energy Limited Partnership, tendered for filing a notice of change in status, submission of updated market analysis, and election as to reporting of future changes in status.

The filing reflects the fact that subsidiaries of NRG Energy, Inc. currently own 100 percent of the applicant.

Comment date: June 20, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-14548 Filed 6-8-01; 8:45 am]

BILLING CODE 6717-01-P